DEPARTMENT OF DEFENSE

Office of the Secretary

[Transmittal No. 21-66]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 21-66 with attached Policy Justification.

Dated: September 21, 2023.
Aaron T. Siegel,
Alternate OSD Federal Register Liaison Officer, Department of Defense.

Transmittal No. 21-66

Notice of Proposed Issuance of Letter of Offer Pursuant to Section 36(b)(1) of the Arms Export Control Act, as Amended

(i) Prospective Purchaser: Taipei Economic and Cultural Representative Office in the United States (TECRO)

(ii) Total Estimated Value:

Major Defense Equipment* | $ 0 million
Other | $100.0 million
Total | $100.0 million
* Funding Source: National Funds.

(iii) Description and Quantity or Quantities of Articles or Services under Consideration for Purchase:

Major Defense Equipment (MDE):

None

Non-MDE:

Equipment and services to support participation in the Patriot International Engineering Services Program (IESP) and Field Surveillance Program (FSP) for five years, including engineering services support, designed to sustain, maintain, and improve the Patriot Air Defense System within the performance envelope described in the system specification through the investigation and resolution of identified problems; missile field surveillance support for legacy (Guidance Enhanced Missile (GEM)) and Patriot Advanced Capability-3 (PAC-3) missiles, designed to ensure the reliability and performance of the Patriot missile through storage and aging programs, surveillance firing programs, and configuration management; legacy and PAC-3 missile stockpile reliability testing, to provide quantitative reliability assessments of the deployed missile round; U.S. Government and contractor technical and logistics support, and other related elements of program support. Participation in the shared IESP and FSP for the life of the Patriot system is a requirement of the U.S. Government.

(iv) Military Department: Army (TW-B-ZDQ)

(v) Prior Related Cases, if any: TW-B-YYV, TW-B-ZBI

(vi) Sales Commission, Fee, etc., Paid, Offered, or Agreed to be Paid: None

(vii) Sensitivity of Technology Contained in the Defense Article or Defense Services Proposed to be Sold: None

(viii) Date Report Delivered to Congress: February 7, 2022

* As defined in Section 47(6) of the Arms Export Control Act.

POLICY JUSTIFICATION

Taipei Economic and Cultural Representative Office in the United States—International Engineering Services Program (IESP) and Field Surveillance Program (FSP) Support

Taipei Economic and Cultural Representative Office in the United States (TECRO) has requested to buy equipment and services to support participation in the Patriot International Engineering Services Program (IESP) and Field Surveillance Program (FSP) for five years, including engineering services support, designed to sustain, maintain, and improve the Patriot Air Defense System within the performance envelope described in the system specification through the investigation and resolution of identified problems; missile field surveillance support for legacy (Guidance Enhanced Missile (GEM)) and Patriot Advanced Capability-3 (PAC-3) missiles, designed to ensure the reliability and performance of the Patriot missile through storage and aging programs, surveillance firing programs, and configuration management; legacy and PAC-3 missile stockpile reliability testing, to provide quantitative reliability assessments of the deployed missile round; U.S. Government and contractor technical and logistics support, and other related elements of program support. Participation in the shared IESP and FSP for the life of the Patriot system is a requirement of the U.S. Government. The total estimated program cost is $100.0 million.

This proposed sale is consistent with U.S. law and policy as expressed in Public Law 96-8.

This proposed sale serves U.S. national, economic, and security interests by supporting the recipient's continuing efforts to modernize its armed forces and to maintain a credible defensive capability. The proposed sale will help improve the security of the recipient and assist in maintaining political stability, military balance, economic and progress in the region.

The proposed sale will help to sustain the recipient's missile density and ensure readiness for air operations. The recipient will use this capability as a deterrent to regional threats and to strengthen homeland defense. The recipient will have no difficulty absorbing this equipment and services into its armed forces.

The proposed sale of this equipment and support will not alter the basic military balance in the region.

The prime contractors will be Raytheon Technologies in Andover, MA; and Lockheed Martin in Camden, AK. There are no known offset agreements proposed in connection with this potential sale.

Implementation of this proposed sale will not require the permanent assignment of any additional U.S. Government or contractor representatives to recipient. Support teams will travel to recipient on a temporary basis.

There will be no adverse impact on U.S. defense readiness as a result of this proposed sale.

[FR Doc. 2023-21054 Filed 9-26-23; 8:45 am]

BILLING CODE 5001-06-P